DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

Applicant: James A. Miner, Duluth, MN, PRT-024284.

The applicant requests a permit to import the sport-hunted trophy of one male bontebok (Damaliscus pygargus dorcas) culled from a captive herd maintained under the management program of the Republic of South Africa, for the purpose of enhancement of the survival of the species.

Applicant: Jack Sprayberry, Cloudcroft, NM, PRT-025803.

The applicant requests a permit to import the sport-hunted trophy of one male bontebok (Damaliscus pygargus dorcas) culled from a captive herd maintained under the management program of the Republic of South Africa, for the purpose of enhancement of the survival of the species.

Applicant: Daniel H. Smith, Jr., San Jose, CA, PRT-025801.

The applicant requests a permit to import the sport-hunted trophy of one male bontebok (Damaliscus pygargus dorcas) culled from a captive herd maintained under the management program of the Republic of South Africa, for the purpose of enhancement of the survival of the species.

Applicant: Steven E. Hopkins, Fairfield, CA, PRT-025798.

The applicant requests a permit to import the sport-hunted trophy of one male bontebok (Damaliscus pygargus dorcas) culled from a captive herd maintained under the management program of the Republic of South Africa, for the purpose of enhancement of the survival of the species.

Applicant: Nancy Hecox, Selah, WA, PRT-021715.

The applicant requests a permit to import the sport-hunted trophy of one male bontebok (Damaliscus pygargus dorcas) culled from a captive herd maintained under the management program of the Republic of South Africa, for the purpose of enhancement of the survival of the species.

Applicant: David M. Russell, Richardson, TX, PRT-026604.

The applicant requests a permit to import the sport-hunted trophy of one male bontebok (Damaliscus pygargus dorcas) culled from a captive herd maintained under the management program of the Republic of South Africa, for the purpose of enhancement of the survival of the species.

Applicant: Timothy R. Hauck, Mt. Pleasant, MI, PRT-026605.

The applicant requests a permit to import the sport-hunted trophy of one male bontebok (Damaliscus pygargus dorcas) culled from a captive herd maintained under the management program of the Republic of South Africa, for the purpose of enhancement of the survival of the species.

Applicant: Rusty R. Rokita, Hardin, MT, PRT-026606.

The applicant requests a permit to import the sport-hunted trophy of one male bontebok (Damaliscus pygargus dorcas) culled from a captive herd maintained under the management program of the Republic of South Africa, for the purpose of enhancement of the survival of the species.

Applicant: Juan F. Gutierrez, Birmingham, AL, PRT-026607.

The applicant requests a permit to import the sport-hunted trophy of one male bontebok (Damaliscus pygargus dorcas) culled from a captive herd maintained under the management program of the Republic of South Africa, for the purpose of enhancement of the survival of the species.

Marine Mammal

The public is invited to comment on the following application for a permit to conduct certain activities with marine mammals. The application was submitted to satisfy requirements of the Marine Mammal Protection Act of 1972, as amended (16 U.S.C. 1361 et seq.) and the regulations governing marine mammals (50 CFR 18).

Applicant: James Adams, Fruitport, MI, PRT-026025.

The applicant requests a permit to import a polar bear (Ursus maritimus) sport-hunted from the Southern Beaufort sea polar bear population, Northwest Territories, Canada for personal use.

Applicant: William J. Freeman, Tullahoma, TN, PRT-026124.

The applicant requests a permit to import a polar bear (Ursus maritimus) sport-hunted from the Lancaster Sound polar bear population, Northwest Territories, Canada for personal use.

Applicant: Jon C. Bumstead, Newaygo, MI 026138.

The applicant requests a permit to import a polar bear (Ursus maritimus) sport-hunted from the Southern Beaufort Sea polar bear population, Northwest Territories, Canada for personal use.

Applicant: Rocky Hall, Henderson, TX, PRT-025796.

The applicant requests a permit to import a polar bear (Ursus maritimus) sport-hunted from the McClintock Channel polar bear population, Northwest Territories, Canada for personal use.

Applicant: Rocky Hall, Henderson, TX, PRT-025795.

The applicant requests a permit to import a polar bear (Ursus maritimus) sport-hunted from the McClintock Channel polar bear population, Northwest Territories, Canada for personal use.

Applicant: Terry Luetgert, Geneva, IL, PRT-026126.

The applicant requests a permit to import a polar bear (Ursus maritimus) sport-hunted from the Northern Beaufort Sea polar bear population, Northwest Territories, Canada for personal use.

Applicant: Ron Winstead, McLean, IL, PRT-026127.

The applicant requests a permit to import a polar bear (Ursus maritimus) sport-hunted from the McClintock Channel polar bear population, Northwest Territories, Canada for personal use.

Applicant: Michael E. O'Banion, Bettendorf, IA, PRT-026608.

The applicant requests a permit to import a polar bear (Ursus maritimus) sport-hunted from the Southern Beaufort Sea polar bear population, Northwest Territories, Canada for personal use.

Applicant: David L. Swenson, Hudson, WI, PRT-026610.

The applicant requests a permit to import a polar bear (Ursus maritimus) sport-hunted from the Lancaster Sound polar bear population, Northwest Territories, Canada for personal use.

Applicant: Richard T. Adams, Verdi, NV, PRT-026611.

The applicant requests a permit to import a polar bear (Ursus maritimus) sport-hunted from the Lancaster Sound polar bear population, Northwest Territories, Canada for personal use.

Applicant: Dennis L. Kemmick, Columbia, PA, PRT-026613.

The applicant requests a permit to import a polar bear (Ursus maritimus) sport-hunted from the Northern Beaufort Sea polar bear population, Northwest Territories, Canada for personal use.

Applicant: John D. Freitag, Trappe, MD, PRT-026616.

The applicant requests a permit to import a polar bear (Ursus maritimus) sport-hunted from the Lancaster Sound polar bear population, Northwest Territories, Canada for personal use.

Applicant: David Hartman, Canfield, OH, PRT-026772.

The applicant requests a permit to import a polar bear (Ursus maritimus) sport-hunted from the Southern Beaufort Sea polar bear population, Northwest Territories, Canada for personal use.

Applicant: Melvin Wilson, Chehalis, WA, PRT-026768.

The applicant requests a permit to import a polar bear (Ursus maritimus) sport-hunted from the Lancaster Sound polar bear population, Northwest Territories, Canada for personal use.

Applicant: William E. Schwartz, Bossier City, LA, PRT-026830.

The applicant requests a permit to import a polar bear (Ursus maritimus) sport-hunted from the Resolute Bay polar bear population, Northwest Territories, Canada for personal use.

Applicant: Leonard Bernstein, New Milford, NJ, PRT-026771.

The applicant requests a permit to import a polar bear (Ursus maritimus) sport-hunted from the Lancaster Sound polar bear population, Northwest Territories, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: May 5, 2000.
Kristen Nelson,
Chief, Branch of Permits, Office of Management Authority.

[FR Doc. 00-11785 Filed 5-10-00; 8:45 am]

BILLING CODE 4310-55-P